DEPARTMENT OF TRANSPORTATION

National Highway Traffic Safety Administration

[Docket No. DOT-NHTSA-2014-0039]

Notice and Request for Comments

AGENCY: National Highway Traffic Safety Administration (NHTSA), Department of Transportation (DOT).

ACTION: Notice and request for comments.

SUMMARY: The Department of Transportation (DOT) invites public comments about our intention to request the Office of Management and Budget (OMB) approval to renew an information collection. Before a Federal agency can collect certain information from the public, it must receive approval from the Office of Management and Budget (OMB). Under procedures established by the Paperwork Reduction Act of 1995, before seeking OMB approval, Federal agencies must solicit public comment on proposed collections of information, including extensions and reinstatement of previously approved collections.

DATES: Written comments should be submitted by December 19, 2017.

ADDRESSES: You may submit comments [identified by Docket No. NHTSA-2014-0039] through one of the following methods:

• Federal eRulemaking Portal: http://www.regulations.gov. Follow the online instructions for submitting comments.

• Fax: 1-202-493-2251.

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Ms. Laurie Flaherty, Coordinator, National 911 Program, Office of Emergency Medical Services, National Highway Traffic Safety Administration, U.S. Department of Transportation, 1200 New Jersey Avenue SE., NTI-140, Room W44-322, Washington, DC 20590. (202) 366-2705.

SUPPLEMENTARY INFORMATION: OMB Control Number: 2127-0679.

Title: National 911 Profile Database.

Type of Review: Renewal/New of an information collection.

Abstract: The National 911 Profile Database is funded by the National 911 Program, which is housed within the Office of Emergency Medical Services at the National Highway Traffic Safety Administration, part of the U.S. Department of Transportation. The National 911 Program is proposing to continue to collect and aggregate information from State level reporting entities that can be used to measure the progress of 911 authorities across the country in upgrading their existing operations and migrating to—digital, Internet-Protocol-based emergency communication networks. The data will be maintained in a “National 911 Profile Database.” One of the objectives of the National 911 Program is to develop, collect, and disseminate information concerning practices, procedures, and technology used in the implementation of 911 services and to support 911 Public Safety Answering Points (PSAPs) and related State and local agencies for 911 deployment and operations. The National 911 Profile Database can be used to follow the progress of 911 authorities in enhancing their existing systems and implementing next-generation networks for more advanced systems. The information can also be used to identify ways in which the National 911 Program can support State and local 911 authorities in the transition process.

Affected Public: Under this proposed effort, the National 911 Program would specifically request reporting entities to voluntarily collect and annually report the data described above utilizing a Web-based data collection tool. Reporting entities are State level 911 program officials, and the data reported will reflect State-level aggregated data. The total maximum number of respondents is identified at 56, including the 50 States and the six U.S. Territories of Guam, U.S. Minor Outlying Islands, American Samoa, Mariana Islands, U.S. Virgin Islands, and Puerto Rico.

Estimated Number of Respondents: The total maximum number of respondents is identified at 56, including the 50 States and the six U.S. Territories of Guam, U.S. Minor Outlying Islands, American Samoa, Mariana Islands, U.S. Virgin Islands, and Puerto Rico.

Frequency: The reporting entities will be requested to submit data annually relating to their State or territory, using the described Web-based tool.

Number of Responses: The total maximum number of responses is identified at 56 annually, including the 50 States and the six U.S. Territories of Guam, U.S. Minor Outlying Islands, American Samoa, Mariana Islands, U.S. Virgin Islands, and Puerto Rico.

Estimated Total Annual Burden: The Agencies estimate that submitting responses to the questions included in the proposed survey instrument utilizing the Web-based tool would require an average of 98 hours to collect, aggregate and submit. Estimating the maximum number of respondents at 56, this would result in a total burden of 5,488 hours. The respondents would not incur any reporting costs from the information collection beyond the time it takes to gather the information, prepare it for reporting and then populate the Web-based data collection tool. The respondents also would not incur any recordkeeping burden or recordkeeping costs from the information collection.

• The total estimated costs to respondents or record-keepers are based on the following:

• The total hour burden of the collection of information equaling 5,488 hours

• Respondents will be State, territory, and tribal government management personnel. To estimate reasonable staff expenses to respond to this information collection, the Agencies reviewed the Bureau of Labor Statistics (BLS) Occupational Outlook Handbook and determined that the Administrative Services Manager description closely aligns with the positions of recipient staff responsible for completing this request. BLS lists a median salary of $86,100 annually, amounting to $41.40 per hour.

• There are no capital, start-up, or annual operation and maintenance costs involved in the collection of information.

• Total cost based on hour's burden equals $227,203.20.

Public Comments Invited: You are asked to comment on any aspect of this information collection, including (a) whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1:48.

Issued in Washington, DC, on October 17, 2017.
Jeff Michael,
Associate Administrator, Research and Program Development.

[FR Doc. 2017-22797 Filed 10-19-17; 8:45 am]

BILLING CODE 4910-59-P